DEPARTMENT OF HOMELAND SECURITY

Coast Guard

[USCG-2003-16224]

Commercial Fishing Industry Vessel Safety Advisory Committee

AGENCY: Coast Guard, DHS.

ACTION: Notice of meeting.

SUMMARY: The Commercial Fishing Industry Vessel Safety Advisory Committee (CFIVSAC) will meet to discuss various issues relating to commercial vessel safety in the fishing industry. The meetings are open to the public.

DATES: CFIVSAC will meet on November 12 and 13, 2003, from 8 a.m. to 5 p.m. The meetings may close early if all business is finished. Requests to make oral presentations should reach the Coast Guard on or before October 22, 2003. Written material for distribution at the meeting should reach the Coast Guard on or before November 5, 2003. Requests to have a copy of your material distributed to each member of the committee should reach the Coast Guard on or before November 1, 2003. Send written material with 25 copies and requests to make oral presentations to Ensign Ken Rockhold, Commandant (G-MOC-3), U.S. Coast Guard Headquarters, 2100 Second Street SW., Washington, DC 20593-0001. This notice is available on the Internet at http://www.dms.dot.gov.

ADDRESSES: CFIVSAC will meet at the Omni Shoreham Hotel, 2500 Calvert Street, NW., Washington DC 20008. The World Wide Web site can be found at: http://www.omnihotels.com.

FOR FURTHER INFORMATION CONTACT: Lieutenant Ken Vazquez, Assistant to the CFIVSAC Executive Director, telephone (202) 267-0478, fax (202) 267-0506. You can also visit the CFIVSAC World Wide Web site at: http://www.uscg.mil/hq/g-m/cfvs/cfivac.htm for up to date meeting information and a listing of the past meeting minutes.

SUPPLEMENTARY INFORMATION: The Commercial Fishing Industry Vessel Safety Advisory Committee (CFIVSAC) will meet to discuss various issues relating to commercial vessel safety in the fishing industry. The meetings are open to the public.

Notice of the meetings is given under the Federal Advisory Committee Act, 5 U.S.C. App. 2.

Agenda of Meeting

The agenda includes the following:

(1) Approval of last meeting's minutes.

(2) Report from the Coast Guard on the status of legislative change proposals and regulatory projects with respect to mandatory exams, training requirements, stability requirements, and immersion suit requirements.

(3) Updated status report from the Coast Guard on casualty data and statistics.

(4) Presentation on Maritime Transportation Security Act of 2002 and Automatic Identification System as related to fishing vessels.

(5) Discussions and working group sessions by the subcommittees on risk based examinations, boundary line and training.

Procedural

The meetings are open to the public. Please note the meetings may close early if all business is finished. At the Chair's discretion, members of the public may make presentations during the meeting. If you would like to make an oral presentation at the meeting, please notify the Executive Director no later than October 22, 2003. Written material for distribution at the meeting should reach the Coast Guard no later than November 5, 2003. If you would like a copy of your material distributed to each member of the committee in advance of the meeting, please submit 25 copies to the Executive Director no later than November 1, 2003.

Information on Services for Individuals With Disabilities

For information on facilities or services for individuals with disabilities or to request special assistance at the meeting, contact the Executive Director as soon as possible but no later than November 5, 2003.

Dated: October 7, 2003.
Joseph J. Angelo,
Director of Standards, Marine Safety, Security & Environmental Protection.

[FR Doc. 03-26031 Filed 10-14-03; 8:45 am]

BILLING CODE 4910-15-P